DEPARTMENT OF JUSTICE

Office of Community Oriented Policing Services; Agency Information Collection Activities: Proposed Collection; Comment Request

ACTION: Notice of information collection under review; extension of a currently approved collection; School-Based Partnership Response Phase Report.

The Department of Justice, Office of Community Oriented Policing Services, has submitted the following information collection request for review and clearance in accordance with the Paperwork Reduction Act of 1995. Office of Management and Budget approval is being sought for the information collection listed below. This proposed information collection was previously published in the Federal Register on August 15, 2000, 65 FR 49836, allowing for a 60-day public comment period.

The purpose of this notice is to allow an additional 30 days for public comment until April 14, 2001. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, National Place, Suite 1220, 1331 Pennsylvania Avenue, NW., Washington, DC 20530.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information, e.g., permitting electronic submission of responses.

Overview of This Information

(1) Type of Information Collection: Extension of a currently approved collection.

(2) Title of the Form/Collection: COPS School-Based Partnership Response Phase Report.

(3) Agency form number, if any, and the applicable component of the Department of Justice sponsoring the collection: Form COPS PPSE/03. Office of Community Oriented Policing Services, U.S. Department of Justice.

(4) Affected public who will be asked or required to respond, as well as a brief abstract: Approximately 275 COPS School-Based Partnership '98 and '99 grant recipients will be asked to respond. The COPS School-Based Partnership Response Phase report will allow the COPS office to collect information on the responses utilized by three grantees to tackle the crime and disorder problems being addressed through the problem-solving model. The COPS Office will use the information collected to examine issues grantees have faced with respect to generating, selecting and implementing effective responses. A report on these findings may prove vital to other grantees in implementing effective responses. Additionally, the information will help the COPS Office anticipate challenges of current and future School-Based Partnership grantees and will help inform future program design.

(5) An estimate of the total number of respondents and the amount of time estimated for an average respondent to respond: Surveys will be administered by mail to approximately 275 COPS School-Based Partnership '98 and '99 grant recipients. Administrative preparation and survey completion will take approximately 0.75 hours per respondent (there is no record keeping burden on this collection).

(6) An estimate of the total public burden (in hours) associated with the collection: The estimated burden hours are 207.

If additional information is required contact: Mrs. Brenda E. Dyer, Deputy Clearance Officer, United States Department of Justice, Information Management and Security Staff, Justice Management Division, Suite 1220, National Place, 1331 Pennsylvania Avenue NW., Washington, DC 20530.

Dated: February 28, 2001.
Brenda E. Dyer,
Department Deputy Clearance Officer, United States Department of Justice.

[FR Doc. 01-5277 Filed 3-2-01; 8:45 am]

BILLING CODE 4410-AT-M